DEPARTMENT OF HOMELAND SECURITY

Coast Guard

33 CFR Part 117

[Docket No. USCG-2018-0438]

Drawbridge Operation Regulation; Newark Bay, Newark, NJ

AGENCY: Coast Guard, DHS.

ACTION: Notice of deviation from drawbridge regulation.

SUMMARY: The Coast Guard has issued a temporary deviation from the operating schedule that governs the Lehigh Valley Bridge across the Newark Bay, mile 4.3, at Newark, New Jersey. This temporary deviation is necessary to allow the bridge to remain in the closed-to-navigation position to facilitate repairs.

DATES: This deviation is effective from 6 a.m. on July 15, 2018, to 6 p.m. on August 6, 2018.

ADDRESSES: The docket for this deviation, USCG-2018-0438 is available at http://www.regulations.gov. Type the docket number in the “SEARCH” box and click “SEARCH.” Click on Open Docket Folder on the line associated with this deviation.

FOR FURTHER INFORMATION CONTACT: If you have questions on this temporary deviation, call or email Judy Leung-Yee, Bridge Management Specialist, First District Bridge Branch, U.S. Coast Guard, telephone 212-514-4336, email Judy.K.Leung-Yee@uscg.mil.

SUPPLEMENTARY INFORMATION: Consolidated Rail Corporation, the owner of the bridge, requested a temporary deviation from the normal operating schedule to facilitate A-Frame sheave bearing repairs. The Lehigh Valley Bridge across the Newark Bay, mile 4.3, at Newark, New Jersey is a lift bridge with a vertical clearance in the closed position of 35 feet at mean high water and 39 feet at mean low water. The existing bridge operating regulations are listed at 33 CFR 117.5 and 117.735.

Under this temporary deviation, the Lehigh Valley Bridge shall remain in the closed position from 6 a.m. on July 15, 2018, to 6 p.m. on July 16, 2018. Should inclement weather occur, the following rain dates may be used: (1) From 6 a.m. on July 22, 2018, to 6 p.m. on July 23, 2018; (2) from 6 a.m. on July 29, 2018, to 6 p.m. on July 30, 2018; or (3) from 6 a.m. on August 5, 2018, to 6 p.m. on August 6, 2018.

The waterway users are seasonal recreational boaters and commercial vessels of various sizes. Coordination with waterway users indicated no objections to this temporary deviation. Vessels able to pass under the bridge in the closed position may do so at any time. The bridge will not be able to open for emergencies and there is no immediate alternate route for vessels to pass.

The Coast Guard will inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 11, 2018.
C.J. Bisignano,
Supervisory Bridge Management Specialist, First Coast Guard District.

[FR Doc. 2018-12774 Filed 6-13-18; 8:45 am]

BILLING CODE 9110-04-P